DEPARTMENT OF TRANSPORTATION

Research and Special Programs Administration

49 CFR Part 192

[Docket No. RSPA-00-7666; Amendment 192-95]

RIN 2137-AD54

Pipeline Safety: Pipeline Integrity Management in High Consequence Areas (Gas Transmission Pipelines)

AGENCY: Office of Pipeline Safety (OPS), Research and Special Programs Administration (RSPA), DOT.

ACTION: Final rule; correction.

SUMMARY: This document corrects the effective date of a final rule published in the Federal Register on December 15, 2003 (68 FR 69778). That rule requires operators to develop integrity management programs for gas transmission pipelines located where a leak or rupture could do the most harm, i.e., could impact high consequence areas (HCAs). The rule requires gas transmission pipeline operators to perform ongoing assessments of pipeline integrity, to improve data collection, integration and analysis, to repair and remediate the pipeline as necessary, and to implement preventive and mitigative actions. The published effective date was in error. This document corrects the effective date from January 14, 2004, to February 14, 2004, to meet the 60 day requirement for Congressional review of major rules. (5 U.S.C. 801(a)(4).)

EFFECTIVE DATE: The effective date for the final rule published on December 15, 2003, at 68 FR 69778 is corrected to read February 14, 2004.

FOR FURTHER INFORMATION CONTACT: Mike Israni by phone at (202) 366-4571, by fax at (202) 366-4566, or by e-mail at mike.israni@rspa.dot.gov, regarding the subject matter of the final rule.

Issued in Washington, DC, on December 22, 2003.
Samuel G. Bonasso,
Deputy Administrator.

[FR Doc. 04-275 Filed 1-14-04; 8:45 am]

BILLING CODE 4910-60-P